DEPARTMENT OF EDUCATION

Special Demonstration Programs—Model Demonstration Projects to Improve the Postsecondary and Employment Outcomes of Youth with Disabilities

AGENCY: Office of Special Education and Rehabilitative Services, Department of Education.

ACTION: Notice of final priority and definitions.

SUMMARY: The Assistant Secretary for Special Education and Rehabilitative Services (OSERS) announces a final priority and definitions under the Special Demonstration Programs administered by the Rehabilitation Services Administration (RSA). The Assistant Secretary may use the priority and definitions for competitions in fiscal year (FY) 2007 and later years. We intend for the priority to support projects that demonstrate the use of promising practices in collaborative transition planning and service delivery to improve the postsecondary education and employment outcomes of youth with disabilities.

DATES: Effective Date: The priority and definitions are effective August 6, 2007.

FOR FURTHER INFORMATION CONTACT: Edwin Powell, U.S. Department of Education, 400 Maryland Avenue, SW., room 5038, Potomac Center Plaza, Washington, DC 20202-2800. Telephone: (202) 245-7505 or via Internet: Edwin.Powell@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The purpose of the Special Demonstration Programs is to provide financial assistance to projects that expand and improve the provision of vocational rehabilitation (VR) and other services for individuals with disabilities authorized under the Rehabilitation Act of 1973, as amended (Rehabilitation Act).

We published a notice of proposed priority and definitions (NPP) for this program in the Federal Register on February 15, 2007 (72 FR 7427). The NPP included a background statement that described our rationale for the priority and definitions.

More specifically, the background section of the NPP described the challenges that youth with disabilities face as they transition to adult life and how too many of these youth experience difficulties in achieving successful post-school outcomes. We explained the importance of the State VR programs in assisting youth with disabilities to prepare for education, training, and employment opportunities beyond high school. The NPP also included a discussion of the need for programs that build on collaborative State and local efforts and use promising practices to improve the postsecondary education and employment outcomes of youth with disabilities.

This notice of final priority and definitions (NFP) contains several changes from the NPP. These changes are explained in the following section, Analysis of Comments and Changes.

Analysis of Comments and Changes

In response to our invitation in the NPP, 75 parties submitted comments on the proposed priority and definitions. An analysis of the comments and changes in the priority and definitions since publication of the NPP follows.

Generally, we do not address technical and other minor changes and suggested changes the law does not authorize us to make under the applicable statutory authority.

Comments: Two commenters stated that the language in the priority should address cultural concerns.

Discussion: Without more detailed information from the commenters, we cannot respond specifically to their concerns. However, we note that under the Rehabilitation Act, VR services must be provided to eligible individuals with disabilities irrespective of an individual's ethnicity or race. An applicant under this priority may submit a proposal that speaks to the need for specific interventions or activities that address cultural concerns.

Changes: None.

Comments: Seven commenters suggested expanding the age range for individuals receiving transition services under this priority. Some commenters suggested we include children younger than 16 in the age range; others suggested we include young adults over the age of 22. Still other commenters suggested that the definition be consistent with their State's regulations or other Federal regulations. One commenter specifically recommended that the definition of youth with disabilities include language from the definition of child with a disability found in 34 CFR 300.8.

Discussion: The regulations for Special Demonstration Programs in 34 CFR 373.4 define youth or young adults with disabilities as individuals with disabilities who are between the ages of 16 and 26. However, we determined that this age range was overly inclusive for this priority. We therefore proposed that these projects should serve youth from the age of 16 through the age of 22 in order to focus on the majority of students receiving transition services under the Individuals with Disabilities Education Act (IDEA). We also determined that this age range would be the most relevant for providing transition services to youth receiving educational services under section 504 plans and youth who have dropped out of school.

The IDEA regulations require transition services to be included in the first individualized education program (IEP) to be in effect when the child turns 16, or younger if determined appropriate by the IEP Team (34 CFR 300.320(b)). We recognize that some States may have regulations that require transition services to be provided to youth under the age of 16. We also recognize that States have the option of providing transition services to youth with disabilities over the age of 22, if permitted by State regulations. Despite these considerations, we believe that it is important to designate a specific age range to ensure that all of these projects serve a comparable population, thus providing for consistency among the projects that will allow for valid comparisons among project results for evaluation purposes. Furthermore, we have not incorporated language from the definition of child with a disability in 34 CFR 300.8, as one commenter recommended, because this definition includes disability categories that apply to students with disabilities receiving special education services under the IDEA but which do not necessarily apply to other transition age youth (e.g., students under section 504 plans or youth who have dropped out of school).

Changes: None.

Comments: One commenter suggested that the priority should not require the creation of a State interagency transition taskforce, because a new taskforce could duplicate the functions of other State entities, such as the State Rehabilitation Councils (SRCs).

Discussion: Given the very specific functions of the State interagency transition taskforce and the requirement that the taskforce focus only on the transition of youth with disabilities, we think it is unlikely that many States have an existing entity that could serve these functions. However, the priority does not necessarily require the creation of a new taskforce. Accordingly, as long as the entity meets the definition of State interagency transition taskforce and can perform the specific functions outlined in the definition, the priority does not preclude an applicant from using an existing entity to facilitate interagency collaboration and coordination for the project.

Changes: None.

Comments: Four commenters suggested that youth with disabilities be included on the State interagency transition taskforce.

Discussion: We do not find it necessary to require that transitioning youth with disabilities serve on the State interagency transition taskforce. Our proposed definition of State interagency transition taskforce stated, in part, that the taskforce must include “individuals to represent the perspectives of * * * transitioning youth with disabilities.” A transitioning youth with a disability could certainly serve on the taskforce in this capacity. However, we believe that individuals other than transitioning youth with disabilities also could represent adequately the perspectives of these transitioning youth. Thus, it is appropriate to allow the applicant to determine who will represent this population.

Changes: In order to clarify that youth with disabilities may, but are not required to, serve on the State interagency transition taskforce, we revised the definition of State interagency transition taskforce to explicitly include youth with disabilities among those who may serve on the taskforce.

Comments: One commenter stated that the priority does not adequately refer to the important services provided by the private sector to transitioning youth with disabilities.

Discussion: We are well aware of the contributions made by the private sector to improve the post-secondary and employment outcomes of youth with disabilities. For this reason, the State interagency transition taskforce must include among its members “individuals to represent the perspectives of business and industry.” We believe that requiring the taskforce to include this group of individuals addresses adequately the private sector's involvement in providing services to youth with disabilities.

Changes: None.

Comments: Seven commenters suggested that the priority require more collaboration among the State VR agency or agencies, the State educational agency (SEA), local educational agencies (LEAs), and community stakeholders on the topic of transition.

Discussion: We believe the priority, as proposed, already requires significant coordination and collaboration among the State VR agency, the SEA, LEAs, and community stakeholders. For instance, under the priority, the State interagency transition taskforce must implement a model transition program to be carried out at two sites in coordination with the applicable LEA or LEAs. The taskforce also must provide training and technical assistance to LEAs on planning and providing transition services to youth with disabilities. Additionally, the priority provides for local interagency teams to implement the VR service delivery models developed by the taskforce. We believe that these activities, as well as others outlined in the priority, are more than sufficient to ensure significant collaboration among local, State, and community stakeholders.

Changes: None.

Comments: One commenter stated that the priority does not address the role of partners specified in the Workforce Investment Act (WIA).

Discussion: We recognize the valuable contributions that WIA partners and other entities providing services under WIA, such as State employment and training agencies, local one-stop workforce centers, and State and local workforce investment boards, can make in improving post-secondary education and employment outcomes for youth with disabilities. Accordingly, in the definition of State interagency transition taskforce, we proposed that the taskforce include representatives of the State VR agency; the State VR agency for the Blind, in a State where there is such an agency; and the State Labor and Employment/Workforce agency, three of the required partners under WIA. An applicant may include other WIA partners in addition to these required participants on its taskforce.

Changes: None.

Comments: One commenter suggested that SEAs and LEAs be excluded from the priority.

Discussion: The purpose of the priority is to promote and strengthen collaboration among various partners at the State and local levels to improve post-school outcomes for youth with disabilities. We believe SEAs and LEAs are vital partners in facilitating successful transitions from school to post-school activities for youth with disabilities, and therefore, decline to make the changes requested.

Changes: None.

Comments: One commenter suggested that the priority include support for the cost of transportation.

Discussion: The priority permits the provision of individualized VR services for youth with disabilities who are eligible for these services under 34 CFR 361.42. These individualized services may include providing transportation if it is needed by the youth to access necessary and appropriate transition services. In addition, the priority does not preclude an applicant from including in its proposed model transition program transportation or any other service that is allowable under the Office of Management and Budget (OMB) cost principles. Therefore, we believe the priority is broad enough to permit the use of funds for transportation services if needed by the individuals served by the project.

Changes: None.

Comments: Two commenters suggested that we require applicants to provide the following additional services under the priority: mentoring, assistive technology services, driver's education, services provided by parent training and information centers, summer programs, services to youth who are involved in the juvenile justice system, and intensive reading remediation programs.

Discussion: We agree that the services identified by the commenters are important services in a transition program. The services that we identified in the priority, however, were not intended to be an exhaustive list of all services that could be provided under the priority. Rather, we expect that, through the State interagency transition taskforce, the grantee will identify the services to be delivered as part of the coordinated set of promising practices to be provided under paragraph 4(c) of the priority. Thus, while the priority does not preclude a grantee from providing any of the services identified by the commenters, we believe it is better left to an applicant and the State interagency transition taskforce to identify the particular services that would best address the needs in the State or local area that the project will serve. Therefore, we do not think it is necessary to require all grantees to provide the particular additional services suggested by the commenters.

Changes: None.

Comments: One commenter suggested that the priority require every middle school, high school, and college involved in the model demonstration project to have a transition counselor to work with youth with disabilities.

Discussion: The priority does not preclude applicants from including transition counselors in their model demonstration projects. However, that approach may not be feasible in some instances because of staffing constraints and funding limitations. Therefore, we do not believe that we should require all applicants to adopt such an approach.

Changes: None.

Comments: One commenter suggested that the priority include a requirement to train personnel in institutions of higher education and personnel responsible for planning and providing services to youth with disabilities.

Discussion: Applicants under the priority must provide training and technical assistance to LEAs and VR personnel. The priority does not preclude an applicant from proposing, as part of its model demonstration project, to train personnel in institutions of higher education or other personnel responsible for planning and providing services to youth with disabilities. However, we do not believe we should require each model demonstration project to train personnel in institutions of higher education or other personnel responsible for planning and providing services to youth with disabilities because training of those personnel may not be necessary to meet the specific needs in the State or local area(s) that the project will cover.

Changes: None.

Comments: One commenter requested that the priority require projects funded under the priority to cultivate community employment possibilities.

Discussion: With regard to employment, the purpose of the priority is to improve employment outcomes for youth with disabilities. Employment outcomes may be improved through a variety of methods, including the use of activities that focus on cultivating community employment possibilities. In order to provide flexibility and promote creativity, we do not believe the priority should include a requirement to cultivate community employment possibilities.

Changes: None.

Comments: Two commenters suggested that the priority require projects to educate parents and students at an early age about transition services.

Discussion: The priority requires projects to provide a coordinated set of promising practices, which must include, among other things, youth development activities and practices to enhance family involvement. Through these youth development activities and practices to enhance family involvement, we expect that grantees will provide information and other services to youth with disabilities and their parents so that they are well informed about the transition services available to them and thus able to make better decisions.

Changes: None.

Comment: One commenter suggested that we require applicants to propose in their applications a specific life skills curriculum that includes vocational preparation and training and community field trips.

Discussion: Under the priority, applicants must provide, among other things, a description of promising practices they propose to provide, including youth development activities. The definition of youth development activities, in turn, specifically identifies training in life skills (e.g., independent living skills, self-advocacy, and conflict resolution) that an applicant may include in its model demonstration project. We do not believe it is appropriate to prescribe more specifically the types of youth development activities an applicant may propose; such decisions are best left to the applicant and the State interagency transition taskforce who can better assess the needs of the youth who will be served.

Changes: None.

Comments: One commenter suggested that the progress of a youth with disabilities be evaluated with a variety of assessments (e.g., work samples, behavioral observation, community-based or situational assessment, family questionnaires, etc.) conducted at various points in the program of services for that youth.

Discussion: Assessment of a youth's progress, through means such as those described by the commenter, may be utilized at the discretion of the applicant. However, the outcome data that each grantee must collect, at a minimum, are specified in paragraph 4(d) of the priority. Therefore, the assessments the grantee chooses to use must ultimately focus on improving postsecondary education and employment outcomes for youth with disabilities.

Changes: None.

Comments: One commenter suggested that the priority require a Web-based clearinghouse to compile and disseminate information about the results of projects funded under the priority.

Discussion: OSERS currently funds several transition-related technical assistance and dissemination centers that serve as clearinghouses, including the National Dropout Prevention Center for Students with Disabilities, the National Secondary Transition Technical Assistance Center, and the National Dissemination Center for Children with Disabilities (NICHCY). Information on promising practices resulting from the model demonstration projects funded under the priority will be shared with these technical assistance centers; thus, these existing centers will be used to disseminate information stemming from projects funded under the priority. We believe this is a more efficient use of resources and, therefore, decline to make the change recommended by the commenter.

Changes: None.

Comments: Three commenters recommended that the priority require an evaluation plan that includes both formative and summative analyses.

Discussion: Paragraph 4(d) of the priority requires applicants to provide an evaluation plan in their applications that includes, among other things, the data to be collected and how it will be analyzed. All grantees will necessarily conduct summative analyses of the data they collect to include in the final report they are required to submit to the Department. Grantees also may utilize formative analyses so that they can better assess the progress they are making with youth at various points during the period of the project. However, we do not believe it is necessary to require that all applicants conduct formative analyses, but instead, will leave this decision to the discretion of the applicant.

Changes: None.

Comments: One commenter asked that we clarify whether a third-party evaluation is required under the priority.

Discussion: Paragraph 2(f) of the priority requires an applicant to demonstrate that the project for which it seeks funding will conduct an evaluation plan of the project's performance, including an evaluation of the effectiveness of the practices and strategies implemented by the project in achieving project goals, particularly post-school outcomes. This project evaluation does not need to be conducted by a third party. However, during the first year of these projects, we intend to work with grantees to ensure that the required evaluation data under paragraph 4(d) are collected uniformly to allow the Department to analyze project outcomes across models.

Changes: None.

Comments: One commenter suggested that all post-school outcome data be disaggregated and available to examine all categories of disabilities.

Discussion: We recognize the importance of making certain that grantees can disaggregate data by disability. In order to be responsive to this concern, we have revised paragraph 4(d) of the priority to require applicants to use a consistent approach to collecting and reporting data that can be disaggregated by disability.

Changes: Paragraph 4(d) of the priority has been changed to require that the evaluation plan include the collection of data about the disability or disabilities of a youth, consistent with the disability coding system used by State VR agencies.

Comments: One commenter suggested that we require that the project findings be disseminated to the local community, including institutions of higher education, served by the LEA.

Discussion: Paragraph 4(e) of the priority requires a plan for the systematic dissemination of project findings and knowledge gained that will assist State and local agencies in adapting or replicating the transition model carried out by the project. Applicants may propose to disseminate their findings in the manner suggested by the commenter. However, we do not believe there is a sufficient basis to require all grantees to disseminate project findings to specific groups.

Changes: None.

Comments: Three commenters recommended that the priority require applicants to base their projects on objective evidence of the specific needs in the State.

Discussion: We recognize the importance of basing the project design on objective evidence regarding specific needs in the State. Objective evidence of State needs will be used as a selection criterion in reviewing applications submitted under the priority. Accordingly, we do not believe it is necessary to include this requirement in the priority.

Changes: None.

Comments: One commenter suggested that applicants be required to demonstrate that they are currently participating in research-based designs for best practices and have significant linkages to other transition-outcome improvement projects.

Discussion: Restricting applicants to those currently participating in research-based designs and those that have significant linkages to other transition-outcome improvement projects may too severely restrict the applicant pool. In fact, through this priority, we hope to encourage the adoption of research-based designs and promising transition practices in additional States and localities. However, we agree with the commenter that projects funded under the priority should link with other transition projects, if they do not already do so. Through ongoing technical assistance and information dissemination activities during the project period, we will advise grantees of new and existing transition-outcome improvement projects with which they may establish linkages.

Changes: None.

Comments: Two commenters suggested that the term “internship” be included in the definition of career preparatory and pre-employment experiences.

Discussion: We did not intend the definition of career preparatory and pre-employment experiences to preclude internships as one of the training activities. To clarify our intent, we have revised the definition.

Changes: The definition of career preparatory and pre-employment experiences has been revised to clarify that the list of experiences and activities included in the definition is not exhaustive.

Comments: One commenter suggested that the list of definitions in the priority include: career planning, vocational preparation, and successful transition.

Discussion: The terms “career planning” and “vocational preparation” are not used in this priority and therefore are not included in the list of definitions. Career planning and vocational preparation are strategies that the applicant may propose in providing career preparatory and pre-employment experiences and student-focused planning activities consistent with paragraph 4(d) of the priority. Regarding the suggestion to add the definition of successful transition to the list of definitions, the term may be defined differently for each student or project. Thus, adding a definition for successful transition to the list of definitions is not necessary or appropriate.

Changes: None.

Comments: One commenter recommended requiring each project to define employment for the sake of clarity because some projects consider sheltered work to be employment.

Discussion: We believe that the definition of employment outcome in 34 CFR part 373 addresses the issue raised by the commenter. Under the regulations, the term employment outcome has the same meaning as employment outcome in the State VR services program regulations in 34 CFR 361.5(b)(16). That definition of employment outcome does not include sheltered work. Therefore, it is not necessary for an applicant to define employment. In order to clarify that applicants must use the definition of employment outcome found in 34 CFR 361.5(b)(16), a reference to this definition has been added in paragraph 2(b)(i) of the priority in which the individualized VR services that an applicant must provide are described.

Changes: Paragraph 2(b)(i) of the priority has been revised to clarify that the individualized VR services that are provided are designed to achieve an employment outcome consistent with the definition in 34 CFR 361.5(b)(16).

Note: This notice does not solicit applications. In any year in which we choose to use this priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Priority—Model Demonstration Projects to Improve the Postsecondary and Employment Outcomes of Youth with Disabilities

This priority supports projects that demonstrate the use of promising practices of collaborative transition planning and service delivery in improving the postsecondary education and employment outcomes of youth with disabilities.

In order to meet this priority, an applicant must—

(1) Provide an assurance that the State has an interagency transition taskforce that provides input in the development of the application and that the interagency transition taskforce will—

(a) Play an advisory role in the operation of the project;

(b) Assist in the development of project goals;

(c) Review project findings; and

(d) Assist in the dissemination of project findings;

(2) Demonstrate that the project for which it seeks funding will—

(a) Implement a model transition program that is designed to improve post-school outcomes of students with disabilities through the use of local interagency transition teams and the implementation of a coordinated set of promising practices and strategies. The activities must be implemented at a minimum of two sites to be carried out in coordination with the applicable LEA or LEAs;

(b) Provide transition services to youth with disabilities, including—

(i) Individualized VR services to youth with disabilities who are eligible for such services consistent with 34 CFR 361.42 and designed to achieve an employment outcome as defined in 34 CFR 361.5(b)(16); and

(ii) Services to groups of youth with disabilities, through methods such as workshops and seminars, to support the transition of such youth to post-school and employment outcomes;

(c) Provide training and technical assistance to LEAs and State VR personnel responsible for planning and providing transition services to youth with disabilities;

(d) Conduct outreach activities that assist in the identification of youth with disabilities who are in need of VR services;

(e) Analyze and use the secondary education and post-school outcome data of youth with disabilities collected by the SEA and other relevant data to assist the project to improve transition services and post-school outcomes;

(f) Conduct an evaluation of the project's performance, including an evaluation of the effectiveness of the practices and strategies implemented by the project in achieving project goals, particularly post-school outcomes;

(3) Provide evidence that the LEAs responsible for providing transition services to children with disabilities under the IDEA in the local sites proposed by the applicant will participate in carrying out project activities (e.g., letter of support); and

(4) Provide a description of—

(a) The State interagency transition taskforce members, including their roles and responsibilities with respect to transition planning and the provision of services;

(b) The local interagency team members, including their roles and responsibilities with respect to transition planning and the provision of services;

(c) The coordinated set of promising practices that it proposes to provide, which, at a minimum, must include student-focused planning, career preparatory and pre-employment experiences, youth development activities, and practices to enhance family involvement;

(d) The evaluation plan, including project goals, measurable objectives, and operational definitions and the data to be collected and how it will be analyzed. At a minimum these data must include: the disability or disabilities of the youth, reported consistent with the disability coding system used by State VR agencies; high school exit data (academic achievement and functional performance data, high school graduation outcomes, including type of diploma received); student's post-school goals; services provided; postsecondary education outcomes; employment outcomes (type of employment, wages and earnings, hours worked, weeks of employment); and public benefits received such as Supplemental Security Income and Social Security Disability Insurance; and

(e) A plan for the systematic dissemination of project findings and knowledge gained that will assist State and local agencies in adapting or replicating the transition model carried out by the project.

Definitions

(1) Career preparatory and pre-employment experiences means experiences and activities to help students become prepared for a successful future in postsecondary education or employment including, but not limited to: instruction in learning and study strategies; career education activities that assist the student to form and develop career aspirations and to make informed choices about careers; structured work experiences such as job shadowing, volunteer and community service, and on-the-job training experiences; and employment skills instruction such as work-related behaviors and skills training, job seeking skills, and occupation-specific vocational skill training.

(2) State interagency transition taskforce means a group of individuals who meet on a regular basis to facilitate interagency collaboration and the coordination of practices and services to improve the transition of students with disabilities from secondary education to postsecondary education and employment, such as identifying and addressing systemic transition barriers; facilitating the coordination of transition policies, practices, and services within the State; providing technical assistance; and disseminating information on promising practices.

(a) The group must, at a minimum, include one or more representatives of the State VR agency (including, where applicable, the State VR agency for the Blind), SEA, State Labor and Employment/Workforce agency, Social Security Administration, State developmental disabilities agency, and the State mental health agency. The group also must include individuals to represent the perspectives of business and industry and transitioning youth with disabilities.

(b) The group also may include representatives from other relevant entities such as the State Rehabilitation Council (if applicable in the State), State Independent Living Council, State Developmental Disabilities and Mental Health Planning Councils, postsecondary educational institutions, and transition service providers, youth with disabilities, parents of transitioning youth with a disability, and other stakeholders.

(3) Student-focused planning means activities designed to facilitate student participation, self-evaluation and self-determination, including goal setting and decision making within the planning process. Examples of such activities include the identification of student interests and preferences; use of educational, career and psychological assessments in the development of postsecondary education, training, and vocational goals; career, vocational counseling, and guidance; VR participation at IEP meetings; joint IEP and individualized plan for employment (IPE) planning meetings; and timely referrals to adult service providers.

(4) Transition services, as defined in section (7)(37) of the Rehabilitation Act, means a coordinated set of activities for a student, designed within an outcome-oriented process, that promotes movement from school to post-school activities, including postsecondary education, vocational training, and integrated employment (including supported employment), continuing and adult education, adult services, independent living, or community participation. The coordinated set of activities must be based upon the individual student's needs, taking into account the student's preferences and interests, and shall include instruction, community experiences, the development of employment and other post-school adult living objectives, and, when appropriate, acquisition of daily living skills and functional vocational evaluation.

(5) Youth development activities means activities that help students control and direct their own lives based on informed decisions and become self-sufficient and productive members of society, such as learning to communicate their disability-related work support and accommodation needs and learning to find, request, and secure appropriate supports and reasonable accommodations in education, training, and employment settings. Examples of youth development activities include: mentoring opportunities, training in life skills such as independent living skills, self-advocacy, and conflict resolution; exposure to personal leadership and youth development activities; and exposure to post-program supports.

(6) Youth with disabilities means an individual with a disability as defined in paragraph (b) of the definition of individual with a disability in 34 CFR 373.4 who is no younger than age 16 and no older than age 22.

Executive Order 12866

This NFP has been reviewed in accordance with Executive Order 12866. Under the terms of the Executive order, we have assessed the potential costs and benefits of this regulatory action.

The potential costs associated with the NFP are those resulting from statutory requirements and those we have determined as necessary for administering this program effectively and efficiently.

In assessing the potential costs and benefits—both quantitative and qualitative—of this NFP we have determined that the benefits of the priority and related definitions justify the costs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 373.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.235U Special Demonstration Programs)

Program Authority: 29 U.S.C. 773(b).

Dated: June 28, 2007.
John H. Hager,
Assistant Secretary for Special Education and Rehabilitative Services.

[FR Doc. 07-3249 Filed 7-3-07; 8:45 am]

BILLING CODE 4000-01-P